DEPARTMENT OF AGRICULTURE

Forest Service

Sierra National Forest; California; Try Me Placer Mining Project

AGENCY: Forest Service, USDA.

ACTION: Notice of intent to prepare an environmental impact statement.

SUMMARY: The Unites States Forest Service (USFS), Sierra National Forest, proposes to approve the Notice of Intent (NOI) and Plan of Operations (PoO) submitted by the Torosians to mine gold bearing alluvial gravels along an un-named perennial stream channel, tributary to West Fork Chiquito Creek.

DATES: Comments concerning the scope of the analysis must be received by July 24, 2017. The draft environmental impact statement is expected August 2018 and the final environmental impact statement is expected October 2018.

ADDRESSES: Send written comments to 1600 Tollhouse Road, Clovis, CA 93611. Comments may also be sent via email to comments-pacificsouthwest-sierra@fs.fed.us, or via facsimile to 559-294-4809. A public meeting is planned for late summer or early fall 2017 at the Bass Lake Ranger District office. If you are interested in being notified when this meeting is scheduled, please contact Alan Gallegos whose contact information is listed below.

It is important that reviewers provide their comments at such times and in such a way that they are useful to the Agency's preparation of the EIS. Therefore, comments should be provided prior to the close of the comment period and should clearly articulate the reviewer's concerns and contentions.

Comments received in response to this solicitation, including names and addresses of those who comment, will be part of the public record for this proposed action. Comments submitted anonymously will be accepted and considered, however.

FOR FURTHER INFORMATION CONTACT: Alan Gallegos, 559-297-0706 extension 4862 or ajgallegos@fs.fed.us.

Individuals who use telecommunication devices for the deaf (TDD) may call the Federal Information Relay Service (FIRS) at 1-800-877-8339 between 8 a.m. and 8 p.m., Eastern Time, Monday through Friday.

SUPPLEMENTARY INFORMATION: The project is located in Madera County, CA in T. 6 S.; R. 23E, 24E, Sections 13, 18, 19. Dave and Steve Torosian have one lode claim (Try Me 1) and three placer claims (Try Me 2, 3, & 5) along an un-named perennial stream channel tributary to West Fork Chiquito Creek, above Soda Springs. Dave and Steve Torosian have submitted a proposal to mine gold bearing alluvial gravels primarily in their Try Me 2 claim. The Try Me 2 Claim is located along approximately, 1,350 feet of perennial stream channel. The Sierra National Forest received a Notice of Intent (NOI) from Dave and Steve Torosian to mine gravels along an un-named perennial stream channel, tributary to West Fork Chiquito Creek. Upon review of the NOI, it was determined that the proposal would likely result in significant impacts to the stream channel and associated surface resources and a Plan of Operation (PoO with details of their proposal was requested. The role of the USFS regarding mining activities on National Forest system lands is to ensure that mining activities minimize adverse environmental effects to surface resources, and comply with all applicable environmental laws. Congress has not given the USFS authority to unreasonably circumscribe or prohibit activities under the 1872 General Mining Law that are otherwise lawful. Therefore it is the intent of the Sierra National Forest to conduct an environmental analysis of the Torosian's proposal, determine the impacts to the environment, identify appropriate mitigation measures, establish a reclamation plan, and issue an approved plan of operation to authorize the proposal.

Purpose and Need for Action

The purpose of the project from the USFS perspective is to comply with the agency responsibility to comply with the 1872 Mining Act and the 36 Code of Federal Regulations (CFR) 228 requiring the USFS to authorize a proposed PoO submitted by Dave and Steve Torosian, with the appropriate mitigation measures and to reclaim the mining disturbance to pre-existing conditions. The purpose of the project from the proponent's perspective is to mine gold bearing gravels along 1350 feet of channel, as a pilot project to determine the most practical, economically efficient and viable future mining method.

Proposed Action

The mining PoO proposes to excavate alluvial gold bearing gravels along the stream channel in three locations. Mining activity would consist of excavating the entire width of the stream channel and floodplain down to a depth of approximately 5 feet. Each excavation would be 200 to 300 feet long with the total volume of excavated stream channel estimated to be 4,000-5,000 cubic yards. Design criteria set forth in the California Storm Water Best Management Practices handbook and be approved by a Qualified Storm Water Pollution Prevention Plan Designer would be implemented as part of the project.

Other activities associated with the mining operation include setting up a camp, adjacent to the West Fork Chiquito Creek and moving in a small storage container to store equipment and supplies. Shallow samples of soil would be collected throughout the 120 acres of the Try Me Claims. Samples would be taken in a grid pattern for assay and geochemical assessment of the area.

All lands disturbed by this proposal would be reclaimed and restored to a condition that is consistent with the Sierra National Forest Land Management Plan, as amended, USFS Region 5 and national USFS native plant policy as well as applicable State air and water quality requirements.

A USFS approved re-vegetation plan would be developed and implemented. The plan specifies site-specific locally native species sown from seed, or propagated from cuttings or other vegetative methods to be planted. Introduction prevention and spread of invasive non-native plants would be built into all stages of the project.

Responsible Official

Sierra National Forest Supervisor, Dean A. Gould.

Nature of Decision To Be Made

The decision to be made is whether or not to approve and authorize the proposed mining PoO submitted by Dave and Steve Torosian.

Preliminary Issues

Preliminary issues include diversion of water from the small tributary where mining is proposed and stream bed alteration of a perennial stream channel where mining will occur; management of invasive weeds; impacts to riparian habitat; and soil and vegetation disruption resulting in habitat disturbance and erosion.

Permits or Licenses Required

Several permits will be required including (1) permit from California Fish and Game (401) and possible Migratory Bird Take Permit; (2) discharge permit from California Water Quality Control Board; (3) stream alteration permit (404) from the Army Corp of Engineers; and (4) reclamation permit from the California Department of Mines.

Scoping Process

This notice of intent initiates the scoping process, which guides the development of the environmental impact statement. It is important that reviewers provide their comments at such times and in such manner that they are useful to the agency's preparation of the environmental impact statement. Therefore, comments should be provided prior to the close of the comment period and should clearly articulate the reviewer's concerns and contentions.

Cynthia D. West,
Acting Associate Deputy Chief, National Forest System.

[FR Doc. 2017-13036 Filed 6-21-17; 8:45 am]

BILLING CODE 3411-15-P